ENVIRONMENTAL PROTECTION AGENCY

[FRL-7398-9]

Agency Information Collection Activities: Submission for OMB Review; Comment Request, General Administrative Requirements for Assistance Programs

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: General Administrative Requirements for Assistance Programs, OMB Control Number 2030-0020, expiration date December 31, 2002. The ICR describes the nature of the information collection and its expected burden and cost; where appropriate, it includes the actual data collection instrument.

DATES: Comments must be submitted on or before November 25, 2002.

ADDRESSES: Send comments, referencing EPA ICR No. 0938.09 and OMB Control No. 2030-0020, to the following addresses: Susan Auby, U.S. Environmental Protection Agency, Collection Strategies Division (Mail Code 2822T), 1200 Pennsylvania Avenue, NW., Washington, DC 20460-0001, and to Office of Information and Regulatory Affairs, Office of Management and Budget (OMB), Attention: Desk Officer for EPA, 725 17th Street, NW., Washington, DC 20503.

FOR FURTHER INFORMATION CONTACT: For a copy of the ICR, contact Susan Auby at EPA by phone at (202) 566-1672, by E-Mail at Auby.Susan@epa.gov or download it off the Internet at http://www.epa.gov/icr and refer to EPA ICR No. 0938.09. For technical questions about the ICR, contact William Hedling at 202-564-5377.

SUPPLEMENTARY INFORMATION: Title: General Administrative Requirements for Assistance Programs, OMB Control Number 2030-0020, EPA ICR Number 0938.09, expiration date December 31, 2002. This is a request for extension of a currently approved collection.

Abstract: The information is collected from applicants/recipients of EPA assistance to monitor adherence to the programmatic and administrative requirements of the Agency's financial assistance program. It is used to make awards, pay recipients, and collect information on how Federal funds are being spent. EPA needs this information to meet its Federal stewardship responsibilities. This ICR renewal requests authorization for the collection of information under EPA's General Regulation for Assistance programs, which establishes minimum management requirements for all recipients of EPA grants or cooperative agreements (assistance agreements). Recipients must respond to these information requests to obtain and/or retain a benefit (Federal funds). 40 CFR part 30, “Grants and Agreements with Institutions of Higher Education, Hospitals and Other Non-profit Organizations,” includes the management requirements for potential grantees from non-profit organizations. 40 CFR part 31, “Uniform Administrative Requirements for Grants and Cooperative Agreements to State and Local Governments,” includes the management responsibilities for potential state and local government grantees. These regulations include only those provisions mandated by statute, required by OMB Circulars, or added by EPA to ensure sound and effective financial assistance management. The information required by these regulations will be used by EPA award officials to make assistance awards and assistance payments and to verify that the recipient is using Federal funds appropriately to comply with OMB Circulars A-21, A-87, A-102, A-110, A-122, A-128, and A-133, which set forth the pre-award, post-award, and after-the-grant requirements.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information, was published on June 10, 2002; no comments were received.

Burden Statement: The annual public reporting and record keeping burden for this collection of information is estimated to average 33 hours per response. Burden means the total time, effort, or financial resources expended by persons to generate, maintain, retain, disclose, or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Not-for-profit institutions.

Estimated Number of Respondents: 5,100.

Frequency of Response: On occasion, quarterly, and annually.

Estimated Total Annual Hour Burden: 166,037.

Estimated Total Annualized Capital, O&M Cost Burden: $0.

Send comments on the Agency's need for this information, the accuracy of the provided burden estimates, and any suggested methods for minimizing respondent burden, including the use of automated collection techniques, to the addresses listed above. Please refer to EPA ICR No. 0938.09 and OMB Control No. 2030-0020 in any correspondence.

Dated: October 17, 2002.
Doreen Sterling,
Acting Director, Collection Strategies Division.

[FR Doc. 02-27139 Filed 10-23-02; 8:45 am]

BILLING CODE 6560-50-P